DEPARTMENT OF COMMERCE

National Oceanic and Atmospheric Administration

RIN 0648-XO20

Endangered Species; File No. 13544 and No. 13573

AGENCY: National Marine Fisheries Service (NMFS), National Oceanic and Atmospheric Administration (NOAA), Commerce.

ACTION: Issuance of permits.

SUMMARY: Notice is hereby given that Jeffrey Schmid, Conservancy of Southwest Florida, 1450 Merrihue Drive, Naples, FL 34102 has been issued a permit to take Kemp's ridley (Lepidochelys kempii), loggerhead (Caretta caretta), hawksbill (Eretmochelys imbricata), and green (Chelonia mydas) sea turtles for purposes of scientific research. Michael Salmon, Florida Atlantic University, 777 Glades Road, Boca Raton, FL 33431-0991 has been issued a permit to take green sea turtles for purposes of scientific research.

ADDRESSES: The permits and related documents are available for review upon written request or by appointment in the following offices:

Permits, Conservation and Education Division, Office of Protected Resources, NMFS, 1315 East-West Highway, Room 13705, Silver Spring, MD 20910; phone (301)713-2289; fax (301)427-2521.

Southeast Region, NMFS, 263 13th Ave South, St. Petersburg, FL 33701; phone (727)824-5312; fax (727)824-5309.

FOR FURTHER INFORMATION CONTACT: Kate Swails or Patrick Opay, (301)713-2289.

SUPPLEMENTARY INFORMATION: On July 24, 2008, notice was published in the Federal Register (73 FR 43211) that a request for a scientific research permit to take sea turtles had been submitted by Dr. Schmid. On September 3, 2008, notice was published in the Federal Register (73 FR 51446) that a request for a scientific research permit to take sea turtles had been submitted by Dr. Salmon. The requested permits have been issued under the authority of the Endangered Species Act of 1973, as amended (ESA; 16 U.S.C. 1531 et seq.) and the regulations governing the taking, importing, and exporting of endangered and threatened species (50 CFR parts 222-226).

Dr. Schmid's research activities will characterize the aggregations of marine turtles in the nearshore waters of Lee County in southwest Florida. The permit holder will annually capture 130 Kemp's ridley, 50 loggerhead, 20 green, and five hawksbill turtles. Turtles will be collected in Pine Island Sound, San Carlos Bay, Estero Bay, and adjacent Gulf of Mexico waters using a large-mesh, run-around strike net. Turtles will be measured, weighed, and tagged with Inconel and passive integrated transponder tags. Tissue samples will be collected for genetic and stable isotope analyses. A subset of Kemp's ridleys will be held for 24-48 hrs. for fecal sample collection. Another subset of Kemp's ridleys will receive electronic transmitters to investigate their movements, home range, and habitat associations. The permit is a five-year permit.

Dr. Salmon will study when green sea turtle navigation is guided by magnetic versus solar cues. Animals will be captured by hand, handled, weighed, measured, flipper and passive integrated transponder tagged, transported, temporarily held for experiments in an outdoor tank arena, and released. Researchers will capture and conduct research on up to 40 animals on near shore reefs of Palm Beach County, Florida over the course of the permit. The permit is issued for 3 years.

Issuance of these permits, as required by the ESA, was based on a finding that such permits (1) were applied for in good faith, (2) will not operate to the disadvantage of such endangered or threatened species, and (3) are consistent with the purposes and policies set forth in section 2 of the ESA.

Dated: April 17, 2009.
P. Michael Payne,
Chief, Permits, Conservation and Education Division, Office of Protected Resources, National Marine Fisheries Service.

[FR Doc. E9-9252 Filed 4-21-09; 8:45 am]

BILLING CODE 3510-22-S